DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification Eligibility To Apply for Trade Adjustment Assistance
[12/1/2015 through 12/10/2015]
Firm name | Firm address | Date accepted for investigation | Product(s)
Badgett Corporation | 1150 Pagni Drive, Chickasha, OK 73023 | 12/10/2015 | The firm maufacturers fabricated and machine equipment, products, and tools for industries.
Implast Interior Technologies, LLC d/b/a Trims Unlimited | 332 Industrial Park Drive, Imlay City, MI 48444 | 12/10/2015 | The firm maufacturers sewn articles of cloth, vinyl and leather for furniture, automotive interiors and medical equipment.
Meramec Instrument Transformer Co | 1 Andrews Way, Cuba, MO 64553 | 12/10/2015 | The firm maufacturers various types of current transformers including board mounted, encapsulated, internally mounted and outdoor mounted.
Poulsen Cascade Tackle, LLC | 15875 SE 114th Avenue #N, Clackamas, OR 97015 | 12/10/2015 | The firm maufacturers fishing tackle and accessories.
Southern Machine Works, Inc | 907 E. Bois D'Arc Avenue, Duncan, OK 73534 | 12/10/2015 | The firm maufacturers precision machines, milling, tubing, and welding services.

Any party having a substantial interest in these proceedings may request a public hearing on the matter. A written request for a hearing must be submitted to the Trade Adjustment Assistance for Firms Division, Room 71030, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: December 10, 2015.
Miriam Kearse,
Lead Program Analyst.

[FR Doc. 2015-31729 Filed 12-16-15; 8:45 am]

BILLING CODE 3510-WH-P